DEPARTMENT OF THE INTERIOR

National Park Service

Notice of Inventory Completion: U.S. Department of Defense, Department of the Navy, Coastal Systems Station, Dahlgren Division, Naval Surface Warfare Center, Panama City, FL

AGENCY: National Park Service, Interior.

ACTION: Notice.

Notice is here given in accordance with the Native American Graves Protection and Repatriation Act (NAGPRA), 25 U.S.C. 3003, of the completion of an inventory of human remains and associated funerary objects in the control of the U.S. Department of Defense, Department of the Navy, Coastal Systems Station, Dahlgren Division, Naval Surface Warfare Center, Panama City, FL (CSS Panama City). The human remains and cultural items were removed from the Sowell Mound site (8BY3), Panama City, Bay County, FL.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by the professional staff of Brockington and Associates, Inc., under contract to CSS Panama City in consultation with representatives of the Absentee-Shawnee Tribe of Indians of Oklahoma; Alabama-Coushatta Tribes of Texas; Alabama-Quassarte Tribal Town, Oklahoma; Chickasaw Nation, Oklahoma; Choctaw Nation of Oklahoma; Eastern Shawnee Tribe of Oklahoma; Jena Band of Choctaw Indians, Louisiana; Kialegee Tribal Town, Oklahoma; Miccosukee Tribe of Indians of Florida; Mississippi Band of Choctaw Indians, Mississippi; Muscogee (Creek) Nation, Oklahoma; Poarch Band of Creek Indians of Alabama; Seminole Nation of Oklahoma; Seminole Tribe of Florida, Dania, Big Cypress, Brighton, Hollywood &Tampa Reservations; Shawnee Tribe, Oklahoma; Thlopthlocco Tribal Town, Oklahoma; and United Keetoowah Band of Cherokee Indians in Oklahoma.

During the 1950s and in 1969 and 1970, human remains representing a minimum of 171 individuals were removed from the Sowell Mound site in Bay County, FL. The Department of the Navy acquired the 373-acre tract on which the Sowell Mound site is located in 1942 for use as a Naval Section Base. CSS Panama City gave permission to Lamar Gammon and a group of amateur archeologists to conduct excavations at the Sowell Mound site throughout the 1950s, during which time an undetermined number of human remains were removed from a 10-foot square excavation. According to an agreement between CSS Panama City and Florida State University, the university curated the human remains and artifacts removed by Mr. Gammon. In 1969 and 1970, CSS Panama City gave permission to Florida State University to conduct field school excavations at the Sowell Mound site. Due to poor record keeping, no accurate counts are available of the number of human remains or artifacts recovered during the university's excavations. According to an agreement between CSS Panama City and Florida State University, the university curated the human remains and artifacts removed by the university. At the request of CSS Panama City, in 2000 Florida State University turned over the human skeletal remains and artifacts from Mr. Gammon's and the university's excavations to Brockington and Associates, Inc., for curatorial preparation and NAGPRA documentation. No known individuals were identified. The 3,098 associated funerary objects are 3,057 ceramic fragments, 3 ground stone tools, 36 shell beads, and 2 lithics.

Based on mortuary treatment of the human remains, the style and date of the associated funerary objects, and radiocarbon dates from the Sowell Mound site, the human remains were determined to be Native American. The human remains and funerary objects from the Sowell Mound site might share a cultural relationship with any Muscogee-speaking people, because Muscogee-speaking people occupied the area during the time period to which the site is dated, approximately A.D. 100-1300. Modern descendants of Muscogee-speaking people are the Absentee-Shawnee Tribe of Indians of Oklahoma; Alabama-Coushatta Tribes of Texas; Alabama-Quassarte Tribal Town, Oklahoma; Chickasaw Nation, Oklahoma; Choctaw Nation of Oklahoma; Eastern Shawnee Tribe of Oklahoma; Jena Band of Choctaw Indians, Louisiana; Kialegee Tribal Town, Oklahoma; Miccosukee Tribe of Indians of Florida; Mississippi Band of Choctaw Indians, Mississippi; Muscogee (Creek) Nation, Oklahoma; Poarch Band of Creek Indians of Alabama; Seminole Nation of Oklahoma; Seminole Tribe of Florida, Dania, Big Cypress, Brighton, Hollywood & Tampa Reservations; Shawnee Tribe, Oklahoma; and Thlopthlocco Tribal Town, Oklahoma. The archival and archeological evidence, however, indicate that the human remains and associated funerary objects are culturally affiliated with the Mississippi Band of Choctaw Indians, Mississippi. Determination of cultural affiliation was based on a variety of types of evidence including linguistics, historic maps, continuity of pottery traditions, and tribal oral tradition. CSS Panama City and Brockington and Associates, Inc., consulted with the Indian tribes listed above regarding repatriation of the human remains and associated funerary objects from the Sowell Mound site. All of the Indian tribes have agreed that the Mississippi Band of Choctaw Indians, Mississippi are the culturally affiliated Indian tribe and the Indian tribe that will serve as the representative Indian tribe for repatriation.

Officials of CSS Panama City have determined that, pursuant to 25 U.S.C. 3001 (9-10), the human remains described above represent the physical remains of 171 individuals of Native American ancestry. Officials of CSS Panama City also have determined that, pursuant to 25 U.S.C. 3001 (3)(A), the 3,098 objects described above are reasonably believed to have been placed with or near individual human remains at the time of death or later as part of the death rite ceremony. Lastly, officials of CSS Panama City have determined that, pursuant to 25 U.S.C. 3001 (2), there is a relationship of shared group identity that can be reasonably traced between the Native American human remains and associated funerary objects and the Mississippi Band of Choctaw Indians, Mississippi.

Representatives of any other Indian tribe that believes itself to be culturally affiliated with the human remains and associated funerary objects should contact Jim Sartain, Cultural and Natural Resources Manager, Naval Surface Warfare Center, Dahlgren Division, Coastal Systems Station Code WPE, 6703 West Highway 98, Panama City, FL 32407-7001, telephone (850) 235-5739, before December 31, 2003. Repatriation of the human remains and associated funerary objects to the Mississippi Band of Choctaw Indians, Mississippi may proceed after that date if no additional claimants come forward.

CSS Panama City is responsible for notifying the Absentee-Shawnee Tribe of Indians of Oklahoma; Alabama-Coushatta Tribes of Texas; Alabama-Quassarte Tribal Town, Oklahoma; Chickasaw Nation, Oklahoma; Choctaw Nation of Oklahoma; Eastern Shawnee Tribe of Oklahoma; Jena Band of Choctaw Indians, Louisiana; Kialegee Tribal Town, Oklahoma; Miccosukee Tribe of Indians of Florida; Mississippi Band of Choctaw Indians, Mississippi; Muscogee (Creek) Nation, Oklahoma; Poarch Band of Creek Indians of Alabama; Seminole Nation of Oklahoma; Seminole Tribe of Florida, Dania, Big Cypress, Brighton, Hollywood & Tampa Reservations; Shawnee Tribe, Oklahoma; Thlopthlocco Tribal Town, Oklahoma; and United Keetoowah Band of Cherokee Indians in Oklahoma that this notice has been published.

Dated: September 29, 2003.
John Robbins,
Assistant Director, Cultural Resources.

[FR Doc. 03-29777 Filed 11-28-03; 8:45 am]

BILLING CODE 4310-50-S